DEPARTMENT OF THE INTERIOR

National Park Service

[NPS-WASO-NAGPRA-NPS0040085; PPWOCRADN0-PCU00RP14.R50000]

Notice of Intent To Repatriate Cultural Items: California State University, Sacramento, Sacramento, CA and East Bay Municipal Utility District, Oakland, CA

AGENCY: National Park Service, Interior.

ACTION: Notice.

SUMMARY: In accordance with the Native American Graves Protection and Repatriation Act (NAGPRA), the California State University, Sacramento and East Bay Municipal Utility District (EBMUD) intend to repatriate certain cultural items that meet the definition of objects of cultural patrimony and that have a cultural affiliation with the Indian Tribes or Native Hawaiian organizations in this notice.

DATES: Repatriation of the cultural items in this notice may occur on or after June 9, 2025.

ADDRESSES: Dr. Mark Wheeler, Chief of Staff to President Luke Wood, California State University, Sacramento, 6000 J Street Sacramento, CA 95819, telephone (916) 460-0490, email mark.wheeler@csus.edu and Charles Beckman, Manager of Watershed and Recreation, East Bay Municipal Utility District, 15083 Camanche Parkway South, Valley Springs, CA 95252, telephone (209) 772-8203, email charles.beckman@ebmud.com.

SUPPLEMENTARY INFORMATION: This notice is published as part of the National Park Service's administrative responsibilities under NAGPRA. The determinations in this notice are the sole responsibility of the California State University, Sacramento and EBMUD, and additional information on the determinations in this notice, including the results of consultation, can be found in the summary or related records. The National Park Service is not responsible for the determinations in this notice.

Abstract of Information Available

The 1,092 cultural items have been requested for repatriation. The 1,092 objects of cultural patrimony include flaked and ground stones; faunal and flora remains; unmodified stones; historic objects; modified shell, bone, stone and wood objects; thermally altered rocks; soil samples; and unidentified materials. Of this number, at least three objects are currently missing from the collections. California State University, Sacramento continues to look for any missing objects. These objects were removed from several sites in Calaveras County, CA in the 1950s and 1960s as a result of various survey and excavation projects caried out under the direction of California State University, Sacramento faculty and students William Beeson, Jerald Johnson, Louis Payen, William Hansen, and David Boloyan prior to the inundation of Camanche Reservoir. These sites include CAL-105, CAL-186 (also known as Hidden Cave), CAL-188 (also known as Big Cave), CAL-194 (also known as Hole in Rock Cave), CAL-218 (also known as Cemetery One Cave), CAL-219 (also known as Pipe Line #1), CAL-231 (also known as two by four Cave), CAL-Little Creek, and unknown locations. The objects have since been housed at the California State University, Sacramento under accessions 81-427, 81-366, 81-367, 81-196, 81-198, 81-426, 81-428, 81-430, and 1974-30-82e.

Determinations

The California State University, Sacramento and EBMUD have determined that:

• The 1,092 objects of cultural patrimony described in this notice have ongoing historical, traditional, or cultural importance central to the Native American group, including any constituent sub-group (such as a band, clan, lineage, ceremonial society, or other subdivision), according to the Native American traditional knowledge of an Indian Tribe or Native Hawaiian organization.

• There is a relationship of shared group identity that can be reasonably traced between the cultural items and the California Valley Miwok Tribe, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 9, 2025. If competing requests for repatriation are received, the California State University, Sacramento and EBMUD must determine the most appropriate requestor prior to repatriation. Requests for joint repatriation of the cultural items are considered a single request and not competing requests. The California State University, Sacramento and EBMUD are responsible for sending a copy of this notice to the Indian Tribes and Native Hawaiian organizations identified in this notice and to any other consulting parties.

Authority: Native American Graves Protection and Repatriation Act, 25 U.S.C. 3004 and the implementing regulations, 43 CFR 10.9.

Dated: April 22, 2025.
Melanie O'Brien,
Manager, National NAGPRA Program.

[FR Doc. 2025-08034 Filed 5-7-25; 8:45 am]

BILLING CODE 4312-52-P